DEPARTMENT OF THE INTERIOR

Minerals Management Service

Notice and Agenda for Meeting of the Royalty Policy Committee of the Minerals Management Advisory Board

AGENCY: Minerals Management Service, Interior.

ACTION: Notice of Meeting.

SUMMARY: The Secretary of the Department of the Interior (Department) has established a Royalty Policy Committee (Committee), on the Minerals Management Advisory Board, to provide advice on the Department's management of Federal and Indian minerals leases, revenues, and other minerals related policies. Committee membership includes representatives from States, Indian Tribes and allottee organizations, minerals industry associations, the general public, and Federal departments. At this tenth meeting, the Committee will elect a Chairperson, Vice Chairperson, and Parliamentarian, and consider revised by-laws. The Phosphate, Trona and Leaseable Solid Minerals; Coal; Accounting Relief for Marginal Properties; and Freedom of Information Act Subcommittees will also present interim reports. The Minerals Management Service (MMS) will be prepared to discuss Royalty in Kind pilots, Royalty Management Program's reengineering overview and Operational Models, MMS's Strategic Plan for 2001-2005, and the April Award Ceremony.

DATES: The meeting will be held on Friday, February 4, 2000, 8:30 a.m. to 4:30 p.m. Central Standard time.

ADDRESSES: The meeting will be held at the Wyndham Greenspoint Hotel, 12400 Greenspoint Drive, Houston, Texas 77060, telephone number (713) 875-1652.

FOR FURTHER INFORMATION CONTACT: Mr. Gary L. Fields, Chief, Program Services Office, Royalty Management Program, Minerals Management Service, P.O. Box 25165, MS 3062, Denver, CO 80225-0165, telephone number (303) 231-3102, fax number (303) 231-3781.

SUPPLEMENTARY INFORMATION: The location and dates of future meetings will be published in the Federal Register. The meetings will be open to the public without advanced registration. Public attendance may be limited to the space available. Members of the public may make statements during the meetings, to the extent time permits, and file written statements with the Committee for its consideration. Written statements should be submitted to Mr. Gary L. Fields, at the address listed in the FOR FURTHER INFORMATION CONTACT section. Minutes of Committee meetings will be available 10 days following each meeting for public inspection and copying at the Royalty Management Program, Building No. 85, Denver Federal Center, Denver, Colorado.

These meetings are being held by the authority of the Federal Advisory Committee Act, Pub. L. No. 92-463, 5 U.S.C. Appendix 1, and Office of Management and Budget Circular No. A-63, revised.

Dated: January 18, 2000.
R. Dale Fazio,
Acting Associate Director for Royalty Management.

[FR Doc. 00-1747 Filed 1-25-00; 8:45 am]

BILLING CODE 4310-MR-P